DEPARTMENT OF HEALTH AND HUMAN SERVICES

Administration for Children and Families

[CFDA Number: 93.676]

Announcement of the Award of Two Single-Source Program Expansion Supplement Grants To Support Legal Services to Refugees Under the Unaccompanied Alien Children's Program

AGENCY: Office of Refugee Resettlement, ACF, HHS.

ACTION: The Administration for Children and Families (ACF), Office of Refugee Resettlement (ORR), announces the award of two single-source program expansion supplement grants to the United States Conference of Catholic Bishops in Washington, DC, and to the U.S. Committee for Refugees and Immigrants in Arlington, VA, under the Unaccompanied Alien Children's (UAC) Program to support post-release legal services.

SUMMARY: The Administration for Children and Families (ACF), Office of Refugee Resettlement (ORR) announces the award of two single-source program expansion supplement grants totaling of $4,261,268. The expansion supplement grants will support the need for legal services by unaccompanied alien children released from the custody of ORR.

FOR FURTHER INFORMATION CONTACT: Jallyn Sualog, Director, Division of Children's Services, Office of Refugee Resettlement, 901 D Street SW., Washington, DC 20447, Telephone (202) 401-4997. Email: jallyn.sualog@acf.hhs.gov

SUPPLEMENTARY INFORMATION: The Unaccompanied Alien Children's program ensures the appropriate placement of all Department of Homeland Security (DHS) UAC referrals within specified timeframes and requires that a range of custodial/residential shelter care and services are provided to the minor detainees and, in certain cases, continued services are authorized after a child is released from ORR residential shelter care. The supplemental awards will support and expand direct legal representation services for unaccompanied minor children after their release from ORR custody.

As part of this administration-wide effort, HHS is proposing a $9 million direct legal representation project that will provide representation to 2,600 unaccompanied children throughout their immigration proceedings. In order to implement this Departmental priority, ORR is awarding supplemental funds totaling $4,261,268 in FY 2014 to provide direct representation to 1,222 children and plans to provide the remaining funds for this project in FY 2015. The initial program will address legal services to post-release alien minor children in Los Angeles, CA; Houston, TX; Miami, FL; Baltimore, MD; Arlington, VA; Dallas, TX; Memphis, TN; New Orleans, LA; and Phoenix, AZ. Recognizing that this will cover only a portion of children released to sponsors in these cities, HHS is committed to continuing to work with DHS and the Department of Justice (DOJ) to determine how best to prioritize the use of these 2,600 slots in the provision of legal services to this vulnerable population.

Under the FY 2014 supplemental awards, the United States Conference of Catholic Bishops in Washington, DC, will receive a supplemental award of $2,226,513 and to the U.S. Committee for Refugees and Immigrants in Arlington, VA, will receive a supplemental award of $2,034,755.

DATES: Supplemental award funds will support activities from September 30, 2014 through September 29, 2015.

Statutory Authority: This program is authorized by—

(A) Section 462 of the Homeland Security Act of 2002, which in March 2003, transferred responsibility for the care and custody of Unaccompanied Alien Children from the Commissioner of the former Immigration and Naturalization Service (INS) to the Director of ORR of the Department of Health and Human Services (HHS).

(B) The Flores Settlement Agreement, Case No. CV85-4544RJK (C. D. Cal. 1996), as well as the William Wilberforce Trafficking Victims Protection Reauthorization Act of 2008 (Pub. L. 110-457), which authorizes post release services under certain conditions to eligible children. All programs must comply with the Flores Settlement Agreement, Case No. CV85-4544-RJK (C.D. Cal. 1996), pertinent regulations and ORR policies and procedures.

Melody Wayland,
Senior Grants Policy Specialist, Office of Administration, Office of Financial Services, Division of Grants Policy.

[FR Doc. 2014-24555 Filed 10-15-14; 8:45 am]

BILLING CODE 4184-45-P